DEPARTMENT OF COMMERCE

National Telecommunications and Information Administration

Proposed Information Collection; Comment Request; NTIA/FCC Web-Based Frequency Coordination System

AGENCY: National Telecommunications and Information Administration, U.S. Department of Commerce.

ACTION: Notice; information collection.

SUMMARY: The Department of Commerce, as part of its continuing effort to reduce paperwork and respondent burden, invites the general public and other Federal agencies to comment on this proposed information collection, pursuant to the Paperwork Reduction Act of 1995, Public Law 104-13 (44 U.S.C. 3506(c)(2)(A)).

DATES: Written comments must be submitted on or before March 13, 2017.

ADDRESSES: Direct all written comments to Jennifer Jessup, Departmental Paperwork Clearance Officer, (202) 482-0336, Department of Commerce, Room 6612, 1401 Constitution Avenue NW., Washington, DC 20230 (or via email at JJessup@doc.gov).

FOR FURTHER INFORMATION CONTACT: Requests for additional information or copies of the information collection instrument and instructions should be directed to Bruce M. Washington at bwashington@ntia.doc.gov, (202) 482-6415.

SUPPLEMENTARY INFORMATION:

I. Abstract

The National Telecommunications and Information Administration (NTIA) hosts a web-based system that collects specific identification information (e.g., entity name, location and projected range of the operation) from applicants seeking authorization by the Federal Communications Commission (FCC) to operate in radio frequency (RF) bands that are shared on a co-primary basis by federal and non-federal spectrum users. The web-based system provides a means for non-federal applicants to rapidly determine the availability of RF spectrum in a specific location, or the need for detailed frequency coordination of a specific newly proposed assignment within the shared portions of the radio spectrum. It allows proposed radio site information from non-federal applicants to be analyzed, and a real-time determination made as to whether a potential for RF interference to, or from, existing Federal government radio operations exists in the vicinity of the proposed site. This web-based coordination helps expedite the coordination process for non-federal applicants while assuring protection of government data relating to national security. The information provided by non-federal applicants also will assist in the protection of the applicant's station from interference from future government operations.

II. Method of Collection

NTIA collects the data by means of an Internet-based system. The system provides real-time responses for an applicant to obtain either: (1) A validation of the coordination of a single frequency, or (2) a notification of the unavailability of a frequency at one site which will require further coordination by the FCC and NTIA.

III. Data

OMB Control No: 0660-0018.

Form No.: N/A.

Type of Review: Regular submission (extension of currently approved information collection).

Affected Public: Applicants seeking to operate in the 71-76 GHz, 81-86 GHz, and 92-95 GHz radio frequency bands.

Estimated Total Number of Annual Respondents: 4,000.

Estimated Time per Response: 15 minutes.

Estimated Total Annual Burden Hours: 1,000.

Estimated Total Annual Cost to Public: $0.00.

IV. Request for Comments

Comments are invited on: (a) Whether the proposed collection of information is necessary for the proper performance of the functions of the agency, including whether the information shall have a practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Department Lead, Office of the Chief Information Officer.

[FR Doc. 2017-00326 Filed 1-10-17; 8:45 am]

BILLING CODE 3510-60-P